DEPARTMENT OF JUSTICE

Bureau of Alcohol, Tobacco, Firearms and Explosives

[OMB Number 1140-0102]

Agency Information Collection Activities; Proposed eCollection eComments Requested; Revision of a Currently Approved Collection; FEL Out of Business Records

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0102 (FEL Out of Business Records) is being revised due to an increase in the number of respondents to this IC, which has also contributed to a rise in both the public burden hours and cost associated with this IC, since the last renewal in 2016.

DATES: Comments are encouraged and will be accepted for 30 days until October 23, 2019.

FOR FURTHER INFORMATION CONTACT: If you have additional comments, regarding the estimated public burden or associated response time, suggestions, or need a copy of the proposed information collection instrument with instructions, or additional information, please contact: Ed Stely, Branch Chief, Tracing Operations and Records Management (TORM) either by mail at 244 Needy Road, Martinsburg, WV 25405, by email at Edward.Stely@atf.gov, or by telephone at 304-260-1515. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: FEL Out of Business Records.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): Individuals or households.

Abstract: Per 27 CFR 555.128, when an explosive materials business or operation is discontinued, the records must be delivered to the ATF Out of Business Records Center within 30 days of the business or operation discontinuance.

5. An estimate of the total number of respondents and the amount of time estimated for an average respondent to respond: An estimated 249 respondents will utilize this information collection, and it will take each respondent approximately 30 minutes to complete their responses.

6. An estimate of the total public burden (in hours) associated with the collection: The estimated annual public burden associated with this collection is 124.5 or 125 hours, which is equal to 249 (# of respondents) * 1 (# of responses per respondents) * .5 (30 minutes).

7. An Explanation of the Change in Estimates: The adjustments associated with this information collection include an increase in the total respondents and burden hours by 49 and 25 respectively, since the last renewal in 2016. Consequently, the cost burden has also risen by $8,842 since 2016.

If additional information is required contact: Melody Braswell, Department Clearance Officer, United States Department of Justice, Justice Management Division, Policy and Planning Staff, Two Constitution Square, 145 N Street NE, 3E.405A, Washington, DC 20530.

Dated: September 18, 2019.
Melody Braswell,
Department Clearance Officer for PRA, U.S. Department of Justice.

[FR Doc. 2019-20492 Filed 9-20-19; 8:45 am]

BILLING CODE 4410-FY-P